SECURITIES AND EXCHANGE COMMISSION

Sunshine Act Meeting

Federal Register Citation of Previous Announcement: [To be published May 5, 2005].

Status: Closed meeting.

Place: 450 Fifth Street, NW., Washington, DC.

Date and Time of Previously Announced Meeting: Thursday May 12, 2005 at 2 p.m.

Change in the Meeting: Time change.

The Closed Meeting scheduled for Thursday, May 12, 2005 at 2 p.m. has been changed to Thursday, May 12, 2005 at 12:30 p.m.

At times, changes in Commission priorities require alterations in the scheduling of meeting items. For further information and to ascertain what, if any, matters have been added, deleted or postponed, please contact the Office of the Secretary at (202) 942-7070.

Dated: May 4, 2005.
Jonathan G. Katz,
Secretary.

[FR Doc. 05-9257 Filed 5-4-05; 4:08 pm]

BILLING CODE 8010-01-P